DEPARTMENT OF TRANSPORTATION

Coast Guard

33 CFR Part 165

[CGD01-00-189]

RIN 2115-AA97

Safety and Security Zones: Presidential Visit, Martha's Vineyard, MA

AGENCY: Coast Guard, DOT

ACTION: Temporary final rule.

SUMMARY: The Coast Guard is establishing temporary safety and security zones, with identical boundaries, off the south shore of Martha's Vineyard, Massachusetts, during the President of the United States' visit to Martha's Vineyard, Massachusetts. The security zone is needed to safeguard the public, the area adjoining the Friedman residence and the President and his family from sabotage or other subversive acts, accidents, or other causes of a similar nature. The safety zone is needed to protect the public. Entry into these zones is prohibited unless authorized by the Captain of the Port, Providence, Rhode Island or the Coast Guard Presidential Security Detail Senior Duty Officer.

DATES: This rule is effective from 6 a.m., Tuesday, August 1, 2000, to 12 midnight on Tuesday, August 8, 2000.

ADDRESSES: Documents as indicated in this preamble are available for inspection and copying at Marine Safety Office Providence, 20 Risho Avenue, East Providence, Rhode Island between the hours of 8 a.m. and 3 p.m., Monday through Friday, except Federal holidays.

FOR FURTHER INFORMATION CONTACT: LT David C. Barata at Marine Safety Office Providence, (401) 435-2335.

SUPLEMENTARY INFORMATION:

Regulatory Information

Pursuant to 5 U.S.C. 553, a notice of proposed rulemaking (NPRM) was not published for this regulation and good cause exists for making it effective less then 30 days after Federal Register publication. Due to the sensitive and unpredictable nature of the President's schedule, the Coast Guard received insufficient notice to publish proposed rules in advance of the event. Any delay encountered in this regulation's effective date would be contrary to public interest since immediate action is needed to protect the President, the public and the area adjoining the Friedman residence.

Background and Purpose

From August 1, 2000, to August 8, 2000, President Clinton will be vacationing on Martha's Vineyard, MA. While vacationing, he and his family will reside at the Friedman residence, which is located on Oyster Pond, just inland of the south shore of Martha's Vineyard. The safety and security zones are needed to protect the President and the public from harmful or subversive acts in the vicinity of the Friedman residence. The safety and security zones have identical boundaries. All persons, other than those approved by the Captain of the Port or the Coast Guard Presidential Security Detail Senior Duty Officer, will be prohibited from these zones. The zones encompass a rectangular area of water extending approximately one-half mile along the beach and 500 yards out into the water. The safety and security zones will be marked by buoys. The public will be made aware of these safety zones through a Broadcast Notice to Mariners made from U.S. Coast Guard Group Woods Hole.

Regulatory Evaluation

This rule is not a significant regulatory action under section 3(f) of Executive Order 12866 and does not require an assessment of potential costs and benefits under section 6(a)(3) of that order. The Office of Management and Budget has not reviewed it under that order. It is not significant under the regulatory policies and procedures of the Department of Transportation (DOT) (44 FR 11040; February 26, 1979). The sizes of the zones are the minimum necessary to provide adequate protection of the President. The entities most likely to be affected are pleasure craft engaged in recreational activities and sightseeing. These individuals and vessels have ample space outside of the safety and security zones to engage in these activities and therefore they will not be subject to undue hardship. Commercial vessels do not normally transit the area of the safety and security zones. Any hardships experienced by persons or vessels are considered minimal compared to the national interest in protecting the President and the public.

Small Entities

Under the Regulatory Flexibility Act (5 U.S.C. 601 et seq.), we considered whether this proposal will have a significant economic impact on a substantial number of small entities. The term “small entities” comprises small businesses and not-for-profit organizations that are independently owned and operated and are not dominant in their fields and governmental jurisdictions with populations of less than 50,000. The Coast Guard certifies under section 605(b) of the Regulatory Flexibility Act (5 U.S.C. 601 et seq.) that this final rule will not have a significant economic impact on a substantial number of small entities. This rule will affect the following entities, some of which may be small entities: the owners or operators of vessels intending to transit along the south shore of Martha's Vineyard from August 1, 2000 to August 8, 2000. The safety and security zones will not have a significant economic impact on a substantial number of small entities for the following reasons. Vessel traffic can pass safely around the area and commercial vessels do not normally transit the area. Vessels engaged in recreational activities and sightseeing have ample space outside of the safety and security zones to engage in these activities. Before the effective period, we will issue maritime advisories widely available to users of the area.

Assistance for Small Entities

Under subsection 213(a) of the Small Business Regulatory Enforcement Fairness Act of 1996 [Pub. L. 104-121], the Coast Guard wants to assist small entities in understanding this final rule so that they can better evaluate its effects on them and participate in the rulemaking. If your small business or organization would be affected by this final rule and you have questions concerning its provisions or options for compliance, please call LT David Barata, telephone (401) 435-2335.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comments on actions by employees of the Coast Guard, call 1-888-REG-FAIR (1-888-734-3247).

Collection of Information

This rule calls for no collection of information requirements under the Paperwork Reduction Act (44 U.S.C. 3501 et seq.).

Federalism

We have analyzed this action under Executive Order 13132, and have determined that this rule does not have federalism implications under that order.

Unfunded Mandates

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking Of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of these regulations and concluded that under Figure 2-1, paragraph 34(g) of Commandant Instruction M16475.1C, this rule is categorically excluded from further environmental documentation. A written Categorical Exclusion Determination is available in the docket for inspection or copying where indicated under ADDRESSES.

List of Subjects in 33 CFR Part 165

Harbors, Marine safety, Navigation (water), Reports and Recordkeeping requirements, Security measures, Waterways.

For the reasons set out in the preamble, the Coast Guard amends 33 CFR Part 165 as follows:

PART 165—[AMENDED]

1. The authority citation for Part 165 continues to read as follows:

Authority: 33 U.S.C. 1231; 50 U.S.C. 191; 33 CFR 1.05-1(g), 6.04-1, 6.04-6 and 160.5; 49 CFR 1.46.

2. Add temporary § 165.T00-189 to read as follows:

§ 165.T00-189 Safety and Security Zones: Presidential Visit; Martha's Vineyard, MA.

(a) Location. The following area has been declared both a safety zone and a security zone: From a point beginning on land at Latitude 41 degrees 20′ 54″ N, Longitude 070 degrees 36′ 34″ W; thence eastward along the shoreline to a point on land at Latitude 41 degrees 20′ 57″ N, Longitude 070 degrees 35′ 45″ W; thence south 500 yards to an offshore point at Latitude 41 degrees 20′ 42″ N, Longitude 070 degrees 35′ 47″ W; thence west to an offshore point at Latitude 41 degrees 20′ 42″ N, Longitude 070 degrees 36′ 30″ W; thence north to the beginning point. The aforementioned offshore points will be marked by buoys indicating the safety and security zones.

(b) Effective date. This rule is effective from 6 a.m. on Tuesday, August 1, 2000, until 12 midnight on Tuesday, August 8, 2000.

(c) Regulations.

(1) In accordance with the general regulations in §§ 165.23 and 165.33 of this part, entry into or movement within these zones is prohibited unless authorized by the COTP Providence or the Coast Guard Presidential Security Detail Senior Duty Officer.

(2) No person may swim upon or below the surface of the water within the boundaries of these security and safety zones.

(3) All persons and vessels shall comply with the instructions of the COTP, the Coast Guard Presidential Security Detail Senior Duty Officer, or the designated on-scene U.S. Coast Guard patrol personnel. U.S. Coast Guard patrol personnel include commissioned, warrant, and petty officers of the U.S. Coast Guard.

(4) The general regulations covering safety and security zones in §§ 165.23 and 165.33, respectively, of this part apply.

Dated: July 27, 2000.
Mark G. Vanhaverbeke,
Captain, U.S. Coast Guard, Captain of the Port.

[FR Doc. 00-20116 Filed 8-4-00; 12:50 pm]

BILLING CODE 4910-15-U